DEPARTMENT OF HOMELAND SECURITY

Coast Guard

33 CFR Parts 3, 20, 100, 104, 110, 135, 151, 160, 162, and 165

46 CFR Parts 1, 2, 4, 5, 16, 28, 45, 50, 67, 115, 122, 153, 169, 170, 176, and 185

[USCG-2006-25556]

RIN 1625-AB07

Coast Guard Sector, Marine Inspection Zone, and Captain of the Port Zone Structure; Technical Amendment

AGENCY: Coast Guard, DHS.

ACTION: Final rule.

SUMMARY: This rule makes non-substantive amendments throughout titles 33 and 46 of the Code of Federal Regulations, in order to align with changes in the Coast Guard's internal organization that resulted from the Coast Guard's recent sector realignment. The amendments typically describe the boundaries of sectors, marine inspection zones, and Captain of the Port zones; describe the reporting relationship between various field units; or reflect a change in the identity of the field unit that is responsible for a particular matter. This rule will have no substantive effect on the regulated public.

DATES: This final rule is effective July 2, 2007. As a member of the public, the effective date of this rule does not place any new requirements on you. For example, if you are currently required to submit a vessel response plan under 33 CFR part 155, this rule may change the Captain of the Port Zone boundaries that are reflected in your plan. However, you do not need to incorporate those changes in your plan until your next scheduled plan revision, or in conjunction with an annual plan review conducted after July 2, 2007.

ADDRESSES: Comments and material received from the public, as well as documents mentioned in this preamble as being available in the docket, are part of docket USCG-2006-25556 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet at http://dms.dot.gov.

FOR FURTHER INFORMATION CONTACT: If you have questions on this rule, call Lieutenant Commander Todd Styrwold, Coast Guard, telephone 202-372-2687. If you have questions on viewing the docket, call Ms. Renee V. Wright, Program Manager, Docket Operations, telephone 202-366-9826.

SUPPLEMENTARY INFORMATION:

Regulatory History

We did not publish a notice of proposed rulemaking (NPRM) for this regulation. Under both 5 U.S.C. 553(b)(A) and (b)(B), the Coast Guard finds that this rule is exempt from notice and comment rulemaking requirements because these changes involve agency organization, and good cause exists for not publishing an NPRM because the changes made are all non-substantive. This rule consists only of organizational amendments. These changes will have no substantive effect on the public; therefore, it is unnecessary to publish an NPRM. Under 5 U.S.C. 553(d)(3), the Coast Guard finds that, for the same reasons, good cause exists for making this rule effective less than 30 days after publication in the Federal Register.

Background and Purpose

The Coast Guard has established a new system of sector commands. Sectors provide unified command and control for accomplishing Coast Guard mission objectives through the integrated conduct of operations, coordinated leveraging of maritime partner relationships, foresight in planning, and aggressive employment of assets and capabilities within the sector's assigned Area of Responsibility (AOR). Sectors provide strategically guided, goal-focused, high-performance service delivery across the full range of Coast Guard missions.

Sector AORs were created based on existing Captain of the Port (COTP) Zones and Marine Inspection Zones where possible. They combine the following Coast Guard legal titles and authorities-COTP, Federal Maritime Security Coordinator, Federal On-Scene Coordinator, Officer in Charge, Marine Inspection (OCMI), Search and Rescue Mission Coordinator—under one operational commander, with the resources necessary to carry out those responsibilities. The establishment of sectors has led to increased interaction and coordination of Coast Guard missions, resulting in improved command and control and better unity of effort in both homeland security and non-homeland security missions.

The Sector Commander serves as the focal point and principal Coast Guard official to engage intra-Department of Homeland Security and interagency partners as well as other maritime stakeholders.

Sectors combine legacy Marine Safety Offices (MSOs), Groups, Vessel Traffic Services, and some Air Stations into a standard organizational architecture. A diverse array of field structures has been transformed into 35 new sector commands, each of which consists of a Prevention, Response, and Logistics Department.

In order to reflect the establishment of sector commands, this final rule extensively revises 33 CFR part 3, which contains informational provisions that describe Coast Guard internal organization. In addition, this rule amends numerous other Coast Guard regulations containing references that are affected by that establishment. While we have made every effort to update terminology comprehensively, if you encounter terms that you believe need updating, please contact the Coast Guard (see FOR FURTHER INFORMATION CONTACT).

Please note that this rule is not intended to require any new action on your part. For example, if you previously filed a Vessel Response Plan (VRP) with us, pursuant to 33 CFR Part 155, the COTP zones on which you based your VRP may be changed by this rule. However, you are not required to change your VRP at this time, simply in order to reflect the changed COTP zones. Instead, we expect that you will reflect the then-current COTP zones the next time you conduct a scheduled plan revision or conduct your annual VRP review.

Regulatory Evaluation

This rule is not a “significant regulatory action” under section 3(f) of Executive Order 12866, Regulatory Planning and Review, and does not require an assessment of potential costs and benefits under section 6(a)(3) of that Order. The Office of Management and Budget has not reviewed it under that Order. As this rule involves internal agency organization and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(a) and (b), of the Instruction from further environmental documentation because this rule involves editorial, procedural, and internal agency functions. A final “Environmental Analysis Check List” and a final “Categorical Exclusion Determination” are available in the docket where indicated under ADDRESSES.

List of Subjects

33 CFR Part 3

Organization and functions (Government agencies).

33 CFR Part 20

Administrative practice and procedure, Hazardous substances, Oil pollution, Penalties, Water pollution control.

33 CFR Part 100

Marine safety, Navigation (water), Reporting and recordkeeping requirements, Waterways.

33 CFR Part 104

Maritime security, Reporting and recordkeeping requirements, Security measures, Vessels.

33 CFR Part 110

Anchorage grounds.

33 CFR Part 135

Administrative practice and procedure, Continental shelf, Insurance, Oil pollution, Reporting and recordkeeping requirements.

33 CFR Part 151

Administrative practice and procedure, Oil pollution, Penalties, Reporting and recordkeeping requirements, Water pollution control.

33 CFR Part 160

Administrative practice and procedure, Harbors, Hazardous materials transportation, Marine safety, Navigation (water), Reporting and recordkeeping requirements, Vessels, Waterways.

33 CFR Part 162

Navigation (water), Waterways.

33 CFR Part 165

Harbors, Marine safety, Navigation (water), Reporting and recordkeeping requirements, Security measures, Waterways.

46 CFR Part 1

Administrative practice and procedure, Organization and functions (Government agencies), Reporting and recordkeeping requirements.

46 CFR Part 2

Marine safety, Reporting and recordkeeping requirements, Vessels.

46 CFR Part 4

Administrative practice and procedure, Drug testing, Investigations, Marine safety, Nuclear vessels, Radiation protection, Reporting and recordkeeping requirements, Safety, Transportation.

46 CFR Part 5

Administrative practice and procedure, Alcohol abuse, Drug abuse, Investigations, Seamen.

46 CFR Part 16

Drug testing, Marine safety, Reporting and recordkeeping requirements, Safety, Transportation.

46 CFR Part 45

Great Lakes, Reporting and recordkeeping requirements, Vessels.

46 CFR Part 50

Reporting and recordkeeping requirements, Vessels.

46 CFR Part 67

Reporting and recordkeeping requirements, Vessels.

46 CFR Part 115

Fire prevention, Marine safety, Passenger vessels, Reporting and recordkeeping requirements.

46 CFR Part 122

Marine safety, Passenger vessels, Penalties, Reporting and recordkeeping requirements.

46 CFR Part 153

Administrative practice and procedure, Cargo vessels, Hazardous materials transportation, Marine safety, Reporting and recordkeeping requirements, Water pollution control.

46 CFR Part 169

Fire prevention, Marine safety, Reporting and recordkeeping requirements, Schools, Vessels.

46 CFR Part 170

Marine safety, Reporting and recordkeeping requirements, Vessels.

46 CFR Part 176

Fire prevention, Marine safety, Passenger vessels, Reporting and recordkeeping requirements.

46 CFR Part 185

Marine safety, Passenger vessels, Reporting and recordkeeping requirements.

For the reasons discussed in the preamble, the Coast Guard amends 33 CFR parts 3, 20, 100, 104, 110, 135, 151, 160, 162, and 165; and 46 CFR parts 1, 2, 4, 5, 16, 28, 45, 50, 67, 115, 122, 153, 169, 170, 176, and 185, as follows:

PART 3—COAST GUARD AREAS, DISTRICTS, SECTORS, MARINE INSPECTION ZONES, AND CAPTAIN OF THE PORT ZONES

1. The authority citation for part 3 is revised to read as follows:

Authority: 14 U.S.C. 92; Pub. L. 107-296, 116 Stat. 2135; Department of Homeland Security Delegation No. 0170.1, para. 2(23).

2. Revise the heading to part 3 to read as follows:

PART 3—COAST GUARD AREAS, DISTRICTS, SECTORS, MARINE INSPECTION ZONES, AND CAPTAIN OF THE PORT ZONES

* * * * *

3. Revise § 3.01-1 to read as follows:

§ 3.01-1 General description.

(a) The Coast Guard's general organization for the performance of its assigned functions and duties consists of the Commandant, assisted by the Headquarters staff, two Area Offices to act as intermediate echelons of operational command, and District and Sector Offices to provide regional direction and coordination. Area, District, and Sector offices operate within defined geographical areas of the United States, its territories, and possessions, including portions of the high seas adjacent thereto. They are established by the Commandant and their areas of responsibility are described in this part.

(b) The two Coast Guard Areas are the Atlantic Area and the Pacific Area. A Coast Guard Area Commander is in command of a Coast Guard Area. The Atlantic Area Office is collocated with the Fifth Coast Guard District Office. The Pacific Area Office is collocated with the Eleventh Coast Guard District Office. Area Commanders are responsible for determining when operational matters require the coordination of forces and facilities of more than one district.

(c) A Coast Guard District Commander is in command of a Coast Guard District and the District Commander's office may be referred to as a Coast Guard District Office. The District Commander's duties are described in § 1.01-1 of this subchapter.

(d)(1) A Coast Guard Sector Commander is in command of a Coast Guard Sector and the Sector Commander's office is referred to as a Coast Guard Sector Office. The Sector Commander is responsible for all Coast Guard missions within the sector's area of responsibility. The Sector Commander's authorities include Search and Rescue Mission Coordinator, Federal Maritime Security Coordinator, Federal On-Scene Coordinator, and, in most Sectors, Officer in Charge Marine Inspection (OCMI) and Captain of the Port (COTP). In his or her capacities as OCMI and COTP, the Sector Commander is responsible for a Marine Inspection Zone and COTP Zone.

(2) In some Sectors, a Marine Safety Unit (MSU) retains OCMI and COTP authority over a designated portion of the Sector's area of responsibility. In such cases, OCMI and COTP authority is exercised by the MSU Commander, not the Sector Commander. The appeal of a COTP order or OCMI matter is routed from the MSU Commander through the Sector Commander and then to the District Commander.

(e) An OCMI is in command of a Marine Inspection Zone and his or her office may be referred to as a Coast Guard Marine Inspection Office. The OCMI's duties are described in § 1.01-20 of this subchapter.

(f) A COTP is in command of a COTP Zone and his or her office may be referred to as a COTP Office. The COTP's duties are described in § 1.01-30 of this subchapter.

(g) Each COTP Zone and each Marine Inspection Zone described in this part also includes the United States territorial seas adjacent to the described area or zone for the purpose of enforcing or acting pursuant to a statute effective in the United States territorial seas. Each COTP Zone and each Marine Inspection Zone described in this part also includes the contiguous zone adjacent to the area or zone for the purpose of enforcing or acting pursuant to a statute effective in the contiguous zone, as defined in § 2.28 of this subchapter. Each COTP Zone and each Marine Inspection Zone described in this part also includes the exclusive economic zone (EEZ) adjacent to the area for the purpose of enforcing or acting pursuant to a statute effective in the EEZ, as defined in § 2.30 of this subchapter.

(h) Geographic descriptions used in this part are based upon boundaries and points located using the WGS 1984 world grid system. When referenced, the outermost extent of the U.S. EEZ is the line of demarcation produced by the National Oceanic and Atmospheric Administration (NOAA) using the NAD 1983 coordinate system and projected to the WGS 1984 grid system. Both coordinate systems are geocentric and similar such that they are Global Positioning System (GPS) compatible throughout the area of concern. Resolution is based upon ddmmss readings to tenths of a second. This corresponds to a positional precision of about +/−2 meters. Decimal degrees to 5 decimal places correspond to a positional precision of about +/−1 meter. State boundaries used to determine points for descriptions of jurisdictional limits were based upon the National Transportation Atlas Database 2003 produced by the Bureau of Transportation Statistics. This data set was produced at a scale of 1:100,000 and theoretically results in a nationwide locational accuracy of about +/−50 meters of true position.

4. Revise § 3.05-10 to read as follows:

§ 3.05-10 Sector Boston Marine Inspection Zone and Captain of the Port Zone.

Sector Boston's office is located in Boston, MA. The boundaries of Sector Boston's Marine Inspection Zone and Captain of the Port Zone start at the boundary of the Massachusetts-New Hampshire coasts at latitude 42°52′20″ N, long 70°49′02″ W; thence proceeding east to the outermost extent of the EEZ at a point latitude 42°52′18″ N, longitude 67°43′53″ W; thence southeast along the outermost extent of the EEZ to a point at latitude 42°08′00″ N, longitude 67°08′17″ W; thence west to a point at latitude 42°08′00″ N, longitude 70°15′00″ W; thence southwest to the Massachusetts coast near Manomet Point at latitude 41°55′00″ N, longitude 70°33′00″ W; thence northwest to latitude 42°04′00″ N, longitude 71°06′00″ W; thence to the Massachusetts-Rhode Island boundary at a point latitude 42°01′08″ N, longitude 71°22′53″ W; thence west along the southern boundary of Massachusetts, except the waters of Congamond Lakes, to the Massachusetts-New York boundary at latitude 42°02′59″ N, longitude 73°29′49″ W; thence north along the Massachusetts-New York boundary to the Massachusetts-New York-Vermont boundaries at a point latitude 42°44′45″ N, longitude 73°15′54″ W; thence east along the entire extent of the northern Massachusetts boundary to the point of origin.

5. Revise § 3.05-15 to read as follows:

§ 3.05-15 Sector Northern New England Marine Inspection Zone and Captain of the Port Zone.

Sector Northern New England's office is located in Portland, ME. The boundaries of Sector Northern New England's Marine Inspection Zone and Captain of the Port Zone start at the boundary of the Massachusetts-New Hampshire coast at latitude 42°52′20″ N, longitude 70°49′02″ W; thence proceeding east to the outermost extent of the EEZ at a point latitude 42°52′18″ N, longitude 67°43′53″ W; thence proceeding north along the outermost extent of the EEZ to the United States-Canadian boundary; thence west along the United States-Canadian boundary and along the outermost extent of the EEZ to a point at latitude 44°59′58″ N, longitude 74°39′00″ W; thence south to latitude 43°36′00″ N, longitude 74°39′00″ W; thence east through Whitehall, NY, to the New York-Vermont border at latitude 43°33′2.8″ N, longitude 73°15′01″ W; thence south along the Vermont boundary to the Massachusetts boundary at latitude 42°44′45″ N, longitude 73°15′54″ W; thence east along the entire extent of the northern Massachusetts boundary to the point of origin.

6. Revise § 3.05-20 to read as follows:

§ 3.05-20 Sector Southeastern New England Marine Inspection Zone and Captain of the Port Zone.

Sector Southeastern New England's office is located in Providence, RI. The boundaries of Sector Southeastern New England's Marine Inspection Zone and Captain of the Port Zone start on the Massachusetts coast at Manomet Point at latitude 41°55′00″ N, longitude 70°33′00″ W; thence northeast to latitude 42°08′00″ N, longitude 70°15′00″ W; thence east to the outermost extent of the EEZ at latitude 42°08′00″ N, longitude 67°08′17″ W; thence south along the outermost extent of the EEZ to latitude 38°24′45″ N, longitude 67°41′26″ W; thence northwest to a point near Watch Hill Light, RI, at latitude 41°18′14″ N, longitude 71°51′30″ W; thence northeast to Westerly, RI, at latitude 41°21′00″ N, longitude 71°48′30″ W; thence north to latitude 41°25′00″ N, longitude 71°48′00″ W; thence north along the Connecticut-Rhode Island boundary, including the waters of Beach Pond, to the Massachusetts boundary; thence east along the Massachusetts-Rhode Island boundary to the northeastern most corner of Rhode Island; thence northeast to latitude 42°04′00″ N, longitude 71°06′00″ W; thence southeast to the point of origin.

7. Revise § 3.05-30 to read as follows:

§ 3.05-30 Sector New York Marine Inspection Zone and Captain of the Port Zone.

Sector New York's office is located in New York City, NY. The boundaries of Sector New York's Marine Inspection Zone and Captain of the Port Zone start near the south shore of Long Island at latitude 40°35′24″ N, longitude 73°46′36″ W proceeding southeast to a point at latitude 38°28′00″ N, longitude 70°11′00″ W; thence northwest to a point near the New Jersey coast at latitude 40°18′00″ N, longitude 73°58′40″ W; thence west along latitude 40°18′00″ N to longitude 74°30′30″ W; thence northwest to the intersection of the New York-New Jersey-Pennsylvania boundaries near Tristate at latitude 41°21′27″ N, longitude 74°41′42″ W; thence northwest along the east bank of the Delaware River to latitude 42°00′00″ N, longitude 75°21′28″ W; thence east to longitude 74°39′00″ W; thence north to latitude 43°36′00″ N; thence east through Whitehall, NY, to the New York-Vermont border at latitude 43°33′03″ N, longitude 73°15′01″ W; thence south along the New York boundary to latitude 41°01′30″ N, longitude 73°40′00″ W; thence south to a point near the southern shore of Manursing Island at latitude 40°58′00″ N, longitude 73°40′00″ W; thence southeasterly to latitude 40°52′30″ N, longitude 73°37′12″ W; thence south to latitude 40°40′00″ N, longitude 73°40′00″ W; thence southwest to the point of origin.

8. Revise § 3.05-35 to read as follows:

§ 3.05-35 Sector Long Island Sound Marine Inspection Zone and Captain of the Port Zone.

Sector Long Island Sound's office is located in New Haven, CT. The boundaries of Sector Long Island Sound's Marine Inspection Zone and Captain of the Port Zone start near the south shore of Long Island at latitude 40°35′24″ N, longitude 73°46′36″ W proceeding northeast to latitude 40°40′00″ N, longitude 73°40′00″ W; thence to latitude 40°52′30″ N, longitude 73°37′12″ W; thence northwest to a point near the southern shore of Manursing Island at latitude 40°58′00″ N, longitude 73°40′00″ W; thence north to the Connecticut-New York boundary at latitude 41°01′30″ N, longitude 73°40′00″ W; thence north along the western boundary of Connecticut to the Massachusetts-Connecticut boundary at latitude 42°02′59″ N, longitude 73°29′15″ W; thence east along the southern boundary of Massachusetts, including the waters of the Congamond Lakes, to the Rhode Island boundary at latitude 42°00′29″ N, longitude 71°47′57″ W; thence south along the Connecticut-Rhode Island boundary, excluding the waters of Beach Pond, to latitude 41°24′00″ N, longitude 71°48′00″ W; thence south to latitude 41°21′00″ N, longitude 71°48′30″ W near Westerly, RI; thence southwest to a point near Watch Hill Light, RI, at latitude 41°18′14″ N, longitude 71°51′30″ W; thence southeast to the outermost extent of the EEZ at a point latitude 38°24′45″ N, longitude 67°41′26″ W; thence southwest along the outermost extent of the EEZ to a point latitude 37°56′50″ N, longitude 69°18′15″ W; thence northwest to latitude 38°28′00″ N, longitude 70°11′00″ W; thence northwest to the point of origin.

9. Revise § 3.25-05 to read as follows:

§ 3.25-05 Sector Delaware Bay Marine Inspection Zone and Captain of the Port Zone.

Sector Delaware Bay's office is located in Philadelphia, PA. The boundaries of Sector Delaware Bay's Marine Inspection Zone and Captain of the Port Zone start near the New Jersey coast at latitude 40°18′00″ N, longitude 73°58′40″ W, proceeding west to latitude 40°18′00″ N, longitude 74°30′30″ W, thence north-northwest to the junction of the New York, New Jersey, and Pennsylvania boundaries near Tristate at latitude 41°21′27″ N, longitude 74°41′42″ W; thence northwest along the east bank of the Delaware River to latitude 42°00′00″ N, longitude 75°21′28″ W; thence west along the New York-Pennsylvania boundary to latitude 42°00′00″ N, longitude 78°54′58″ W; thence south to latitude 41°00′00″ N, longitude 78°54′58″ W; thence west to latitude 41°00′00″ N, longitude 79°00′00″ W; thence south to the Pennsylvania-Maryland boundary at latitude 39°43′22″ N, longitude 79°00′00″ W; thence east to the intersection of the Maryland-Delaware boundary at latitude 39°43′22″ N, longitude 75°47′17″ W; thence south along the Maryland-Delaware boundary to latitude 38°27′37″ N, longitude 75°41′35″ W and east along the Maryland-Delaware boundary to and including Fenwick Island Light at latitude 38°27′03″ N, longitude 75°02′55″ W. The offshore boundary starts at Fenwick Island Light and proceeds east to a point at latitude 38°26′25″ N, longitude 74°26′46″ W; thence southeast to latitude 37°19′14″ N, longitude 72°13′13″ W; thence east to the outermost extent of the EEZ at latitude 37°19′14″ N, longitude 71°02′54″ W; thence northeast along the outermost extent of the EEZ to latitude 37°56′50″ N, longitude 69°18′15″ W; thence northwest to latitude 38°28′00″ N, longitude 70°11′00″ W; thence northwest to a point near the New Jersey coast at latitude 40°18′00″ N, longitude 73°58′40″ W.

10. Revise § 3.25-10 to read as follows:

§ 3.25-15 Sector Hampton Roads Marine Inspection Zone and Captain of the Port Zone.

Sector Hampton Roads' office is located in Portsmouth, VA. The boundaries of Sector Hampton Roads' Marine Inspection Zone and Captain of the Port Zone start at a point on the Delaware-Maryland boundary at latitude 38°00′18″ N, longitude 75°30′00″ W and proceeds north to the Delaware-Maryland boundary at latitude 38°27′15″ N, longitude 75°30′00″ W; thence east along the Delaware-Maryland boundary to the intersection of the Maryland-Delaware boundary and the coast at latitude 38°27′03″ N, longitude 75°02′55″ W thence east to a point at latitude 38°26′25″ N, longitude 74°26′46″ W; thence southeast to latitude 37°19′14″ N, longitude 72°13′13″ W; thence east to the outermost extent of the EEZ at latitude 37°19′14″ N, longitude 71°02′54″ W; thence south along the outermost extent of the EEZ to a point latitude 36°33′00″ N, longitude 71°29′34″ W; thence west along latitude 36°33′00″ N to the Virginia-North Carolina boundary at latitude 36°33′00″ N, longitude 75°52′00″ W; thence west along the Virginia-North Carolina boundary to the intersection of Virginia-North Carolina-Tennessee; thence along the Virginia-Tennessee boundary to the intersection of Virginia-Tennessee-Kentucky; thence northeast along the Virginia-Kentucky boundary to the intersection of Virginia-Kentucky-West Virginia; thence northeast along the Virginia-West Virginia boundary to the intersection of the Virginia-West Virginia-Maryland boundary; thence southeast along the Virginia-Maryland and Virginia-District of Columbia boundaries as those boundaries are formed along the southern bank of the Potomac River to the Chesapeake Bay; thence east along the Virginia-Maryland boundary as it proceeds across the Chesapeake Bay, Tangier and Pocomoke Sounds, Pocomoke River, and Delmarva Peninsula; thence east along the Virginia-Maryland boundary to the point of origin.

11. Revise § 3.25-15 to read as follows:

§ 3.25-15 Sector Baltimore Marine Inspection Zone and Captain of the Port Zone.

Sector Baltimore's office is located in Baltimore, MD. The boundaries of Sector Baltimore's Marine Inspection Zone and Captain of the Port Zone start at a point latitude 38°27′15″ N, longitude 75°30′00″ W. on the Delaware-Maryland boundary, proceeding along the Delaware-Maryland boundary west to a point at latitude 38°27′37″ N, longitude 75°41′35″ W and north to the Pennsylvania boundary at a point latitude 39°43′22″ N, longitude 75°47′17″ W; thence west along the Pennsylvania-Maryland boundary to the West Virginia boundary at a point latitude 39°43′16″ N, longitude 79°28′36″ W; thence south and east along the Maryland-West Virginia boundary to the intersection of the Maryland-Virginia-West Virginia boundaries at a point latitude 39°19′17″ N, longitude 77°43′08″ W; thence southwest along the Loudoun County, VA boundary to the intersection with Fauquier County, VA at a point latitude 39°00′50″ N, longitude 77°57′43″ W; thence east along the Loudoun County, VA boundary to the intersection with the Prince William County, VA boundary at a point latitude 38°56′34″ N, longitude 77°39′18″ W; thence south along the Prince William County boundary to the intersection with Stafford County, VA, at a point latitude 38°33′22″ N, longitude 77°31′52″ W; thence east along the Prince William County, VA boundary to a point near the western bank of the Potomac River at latitude 38°30′11″ N, longitude 77°18′01″ W; thence south and east along the southern bank of the Potomac River to the Maryland-Virginia boundary at a point latitude 37°53′25″ N, longitude 76°14′12″ W; thence east along the Maryland-Virginia boundary as it proceeds across the Chesapeake Bay, Tangier and Pocomoke Sounds, Pocomoke River, and Delmarva Peninsula to a point on the Maryland-Virginia boundary near the Atlantic coast at latitude 38°00′18″ N, longitude 75°30′00″ W; thence north to the Delaware-Maryland boundary at the point of origin.

12. Revise § 3.25-20 to read as follows:

§ 3.25-20 Sector North Carolina Marine Inspection Zone and Captain of the Port Zone; Marine Safety Unit Wilmington: Cape Fear River Marine Inspection and Captain of the Port Zones.

Sector North Carolina's office is located in Fort Macon, NC. A subordinate unit, Marine Safety Unit (MSU) Wilmington, is located in Wilmington, NC.

(a) The boundaries of Sector North Carolina's Marine Inspection Zone and Captain of the Port Zone start at the sea on the North Carolina-Virginia border at latitude 36°33′00″ N, longitude 75°52′00″ W, proceeding west along the North Carolina-Virginia boundary to the Tennessee boundary; thence southwest along the North Carolina-Tennessee boundary to the Georgia boundary; thence east along the North Carolina-Georgia boundary to the South Carolina boundary; thence east along the North Carolina-South Carolina boundary to the sea at latitude 33°51′04″ N, longitude 78°32′28″ W; thence southeast on a bearing of 122°T to a point at latitude 33°17′55″ N, longitude 77°31′46″ W; thence southeast to the outermost extent of the EEZ at latitude 31°42′32″ N, longitude 74°29′53.3″ W; thence northeast along the outermost extent of the EEZ to a point at latitude 36°33′00″ N, longitude 71°29′34″ W; thence west to the point of origin; and in addition, all the area described in paragraph (b) of this section.

(b) MSU Wilmington is responsible for the Cape Fear River Marine Inspection and Captain of the Port Zones, starting at a point at latitude 34°26′26″ N, longitude 77°31′05″ W at the intersection of the Pender County and Onslow County lines on the Atlantic Coast, proceeding north along the boundary of Pender County and Onslow County to the intersection of the Pender County, Duplin County, and Onslow County lines; thence north along the boundary of Duplin County and Onslow County to the intersection of the Duplin County, Onslow County, and Jones County lines; thence northwest along the boundary of Duplin County and Jones County to the intersection of the Duplin County, Jones County, and Lenoir County lines; thence northwest along the boundary of Duplin County and Lenoir County to the intersection of the Duplin County, Lenoir County, and Wayne County lines; thence west along the boundary of Duplin County and Wayne County to the intersection of the Duplin County, Wayne County, and Sampson County lines; thence north along the boundary of Sampson County and Wayne County to the intersection of the Sampson County, Wayne County, and Johnston County lines; thence west along the boundary of Sampson County and Johnston County to the intersection of the Sampson County, Johnston County, and Harnett County lines; thence southwest along the boundary of Sampson County and Harnett County to the intersection of the Sampson County, Harnett County, and Cumberland County lines; thence west along the boundary of Cumberland County and Harnett County to the intersection of the Cumberland County, Harnett County, and Moore County lines; thence south along the boundary of Cumberland County and Moore County to the intersection of the Cumberland County, Moore County, and Hoke County lines; thence west along the boundary of Hoke County and Moore County to the intersection of the Hoke County, Moore County, Richmond County, and Scotland County lines; thence southeast along the boundary of Hoke County and Scotland County to the intersection of the Hoke County, Scotland County, and Robeson County lines; thence southwest along the boundary of Robeson County and Scotland County to the intersection of the Robeson County, Scotland County, and North Carolina-South Carolina boundaries; thence southeast along the North Carolina-South Carolina boundary to a point at latitude 33°51′30″ N, longitude 78°33′00″ W along the North Carolina-South Carolina boundary; thence to the Atlantic Coast at latitude 33°51′04″ N, longitude 78°32′28″ W; thence southeast to a point on a bearing of 122° T at latitude 33°17′55″ N, longitude 77°31′46″ W; thence north to a point at latitude 34°26′26″ N, longitude 77°31′05″ W.

13. Revise § 3.35-10 to read as follows:

§ 3.35-10 Sector Miami Marine Inspection Zone and Captain of the Port Zone.

Sector Miami's office is located in Miami, FL. The boundaries of Sector Miami's Marine Inspection Zone and Captain of the Port Zone start at the outermost extent of the EEZ at latitude 28°00′00″ N, longitude 79°23′34″ W, proceeding west to latitude 28°00′00″ N, longitude 81°30′00″ W; thence south to the northern boundary of Collier County, FL, at longitude 81°30′00″ W; thence following along the boundaries of Collier County east along the northern boundary to the eastern boundary and then south along the eastern boundary to the southern boundary of Collier County; thence south along the western boundary of Miami-Dade County to the sea at latitude 25°10′36″ N, longitude 80°51′29″ W; thence east along the southern boundary of Miami-Dade County to latitude 25°24′52″ N, longitude 80°19′39″ W; thence southeast to the outermost extent of the EEZ at latitude 25°11′34″ N, longitude 79°41′31″ W; thence north along the outermost extent of the EEZ to the point of origin.

14. Revise § 3.35-15 to read as follows:

§ 3.35-15 Sector Charleston Marine Inspection Zone and Captain of the Port Zone; Marine Safety Unit Savannah.

Sector Charleston's office is located in Charleston, SC. A subordinate unit, Marine Safety Unit (MSU) Savannah, is located in Savannah, GA.

(a) Sector Charleston's Marine Inspection Zone and Captain of the Port Zone start at the intersection of the North Carolina-South Carolina boundaries and the sea at latitude 33°51′04″ N, longitude 78°32′28″ W, proceeding west along the North Carolina-South Carolina boundary to the intersection of the North Carolina-South Carolina-Georgia boundaries; thence south along the South Carolina-Georgia boundary to the intersection with the Federal dam at the southern end of Hartwell Reservoir at latitude 34°21′30″ N, longitude 82°49′15″ W; thence south along the eastern bank and then east along the northern bank of the Savannah River to the sea at latitude 32°02′23″ N, longitude 80°53′06″ W, near the eastern tip of Oyster Bed Island; thence east on a line bearing 084° T to latitude 32°03′00″ N, longitude 80°45′00″ W; thence southeast on a line bearing 122° T to latitude 30°50′00″ N, longitude 78°35′00″ W; thence east to the outermost extent of the EEZ at latitude 30°50′00″ N, longitude 76°09′54″ W; thence northeast along the outermost extent of the EEZ to latitude 31°42′32″ N, longitude 74°29′53″ W; thence northwest to the point of origin; and in addition, all the area described in paragraph (b) of this section.

(b) The boundaries of the MSU Savannah Marine Inspection and Captain of the Port Zones start near the eastern tip of Oyster Bed Island at latitude 32°02′23″ N, longitude 80°53′06″ W, proceeding west along the northern bank and then north along the eastern bank of the Savannah River to the intersection of the South Carolina-Georgia boundary with the Federal dam at the southern end of Hartwell Reservoir, at latitude 34°21′30″ N, longitude 82°49′15″ W; thence north along the South Carolina-Georgia boundary to the intersection of the North Carolina-South Carolina-Georgia boundaries; thence west along the Georgia-North Carolina boundary and continuing west along the Georgia-Tennessee boundary to the intersection of the Georgia-Tennessee-Alabama boundaries; thence south along the Georgia-Alabama boundary to latitude 32°53′00″ N; thence southeast to the eastern bank of the Flint River at latitude 32°20′00″ N; thence south along the eastern bank of the Flint River and continuing south along the eastern shore of Seminole Lake to latitude 30°45′57″ N, longitude 84°45′00″ W; thence south along longitude 84°45′00″ W to the Florida boundary; thence east along the Florida-Georgia boundary to longitude 82°15′00″ W; thence north to latitude 30°50′00″ N, longitude 82°15′00″ W; thence east to the outermost extent of the EEZ at latitude 30°50′00″ N, longitude 76°09′54″ W; thence northwest to latitude 32°03′06″ N, longitude 80°45′00″ W; thence southwest to the point of origin. The boundary includes all the waters of the Savannah River including adjacent waterfront facilities in South Carolina.

15. Revise § 3.35-20 to reads as follows:

§ 3.35-20 Sector Jacksonville Marine Inspection Zone and Captain of the Port Zone.

Sector Jacksonville's office is located in Jacksonville, FL. The boundaries of Sector Jacksonville's Marine Inspection Zone and Captain of the Port Zone start at the outermost extent of the EEZ at latitude 30°50′00″ N, longitude 76°09′54″ W, proceeding west to latitude 30°50′00″ N, longitude 82°15′00″ W; thence south to the intersection of the Florida-Georgia boundary at longitude 82°15′00″ W; thence west along the Florida-Georgia boundary to longitude 83°00′00″ W; thence southeast to latitude 28°00′00″ N, 81°30′00″ W; thence east to the outermost extent of the EEZ at latitude 28°00′00″ N, longitude 79°23′34″ W; thence northeast along the outermost extent of the EEZ to the point of origin.

16. Revise § 3.35-25 to read as follows:

§ 3.35-25 Sector San Juan Marine Inspection Zone and Captain of the Port Zone.

Sector San Juan's office is located in San Juan, PR. The boundaries of Sector San Juan's Marine Inspection Zone and Captain of the Port Zone comprise both the Commonwealth of Puerto Rico and the Territory of the Virgin Islands, and the waters adjacent to both, in an area enclosed by the outermost extents of the EEZ, subject to existing laws and regulations.

§ 3.35-30 [Removed]

17. Remove § 3.35-30.

18. Revise § 3.35-35 to read as follows:

§ 3.35-35 Sector St. Petersburg Marine Inspection Zone and Captain of the Port Zone.

Sector St. Petersburg's sector office is located in St. Petersburg, FL. The boundaries of Sector St. Petersburg's Marine Inspection Zone and Captain of the Port Zone start at the Florida coast at latitude 29°59′14″ N, longitude 83°50′00″ W, proceeding north to latitude 30°15′00″ N, longitude 83°50′00″ W; thence west to latitude 30°15′00″ N, longitude 84°45′00″ W; thence north to the Florida-Georgia boundary at longitude 84°45′00″ W; thence east along the Florida-Georgia boundary to longitude 83°00′00″ W; thence southeast to latitude 28°00′00″ N, longitude 81°30′00″ W; thence south along 81°30′00″ W to the northern boundary of Collier County, FL, and then following along the boundaries of Collier County, east along the northern boundary to the eastern boundary and then south along the eastern boundary to the southern boundary and then west along the southern boundary to latitude 25°48′12″ N, longitude 81°20′39″ W; thence southwest to the outermost extent of the EEZ at latitude 24°18′57″ N, longitude 84°50′48″ W; thence west along the outermost extent of the EEZ to latitude 24°48′13″ N, longitude 85°50′05″ W; thence northeast to the point of origin.

19. Add § 3.35-40 to read as follows:

§ 3.35-40 Sector Key West Marine Inspection Zone and Captain of the Port Zone.

Sector Key West's office is located in Key West, FL. The boundaries of Sector Key West's Marine Inspection Zone and Captain of the Port Zone start at the outermost extent of the EEZ at latitude 25°11′34″ N, longitude 79°41′31″ W, proceeding northeast to the Miami-Dade County, FL boundary at latitude 25°24′52″ N, longitude 80°19′39″ W; thence west along the southern boundary of Miami-Dade County to the western boundary at latitude 25°10′36″ N, longitude 80°51′29″ W; thence north along the western boundary of Miami-Dade County to the southern boundary of Collier County, FL; thence west along the southern boundary of Collier County to latitude 25°48′12″ N, longitude 81°20′39″ W; thence southwest to the outermost extent of the EEZ at latitude 24°18′57″ N, longitude 84°50′48″ W; thence east and then north along the outermost extent of the EEZ to the point of origin.

20. Revise § 3.40-10 to read as follows:

§ 3.40-10 Sector Mobile Marine Inspection Zone and Captain of the Port Zone.

Sector Mobile's office is located in Mobile, AL. The boundaries of Sector Mobile's Marine Inspection Zone and Captain of the Port Zone start near the Florida coast at latitude 29°59′14″ N, longitude 83°50′00″ W, proceeding north to latitude 30°15′00″ N, longitude 83°50′00″ W; thence west to latitude 30°15′00″ N, longitude 84°45′00″ W; thence north to a point near the southern bank of the Seminole Lake at latitude 30°45′57″ N, longitude 84°45′00″ W; thence northeast along the eastern bank of the Seminole Lake and north along the eastern bank of the Flint River to latitude 32°20′00″ N, longitude 84°01′51″ W; thence northwest to the intersection of the Georgia-Alabama border at latitude 32°53′00″ N; thence north along the Georgia-Alabama border to the southern boundary of Dekalb County, AL, thence west along the northern boundaries of Cherokee, Etowah, Blount, Cullman, Winston, and Marion Counties, AL, to the Mississippi-Alabama border; thence north along the Mississippi-Alabama border to the southern boundary of Tishomingo County, MS, at the Mississippi-Tennessee border; thence west along the southern boundaries of Tishomingo and Prentiss Counties; thence north along the western boundaries of Prentiss and Alcorn Counties; thence west along the northern boundaries of Tippah, Benton, and Marshall Counties, MS; thence south and west along the eastern and southern boundaries of DeSoto, Tunica, Coahoma, Bolivar, and Washington Counties, MS; thence east along the northern boundary of Humphreys and Holmes Counties, MS; thence south along the eastern and southern boundaries of Holmes, Yazoo, Warren, Claiborne, Jefferson, Adams, and Wilkinson Counties, MS; thence east from the southernmost intersection of Wilkinson and Amite Counties, MS, to the west bank of the Pearl River; thence south along the west bank of the Pearl River to longitude 89°31′48″ W (at the mouth of the river); thence south along longitude 89°31′48″ W to latitude 30°10′00″ N; thence east along latitude 30°10′00″ N to longitude 89°10′00″ W; thence southeast to latitude 29°00′00″ N, longitude 88°00′00″ W; thence south along longitude 88°00′00″ W to the outermost extent of the EEZ; thence east along the outermost extent of the EEZ to the intersection with a line bearing 199°T from the intersection of the Florida coast at longitude 83°50′00″ W; thence northeast along a line bearing 199° T from the Florida coast at longitude 83°50′00″ W to the coast.

21. Revise § 3.40-15 to read as follows:

§ 3.40-15 Sector New Orleans Marine Inspection Zone and Captain of the Port Zone; Marine Safety Unit Morgan City.

Sector New Orleans' office is located in New Orleans, LA. A subordinate unit, Marine Safety Unit (MSU) Morgan City, is located in Morgan City, LA.

(a) Sector New Orleans' Marine Inspection Zone and Captain of the Port Zone starts at latitude 30°10′00″ N, longitude 89°10′00″ W; thence west along latitude 30°10′00″ N to longitude 89°31′48″ W; thence north along longitude 89°31′48″ W to the west bank of the Pearl River (at the mouth of the river); thence north along the west bank of the Pearl River to latitude 31°00′00″ N; thence west along latitude 31°00′00″ N to the east bank of the Mississippi River; thence south along the east bank to mile 303.0, thence west to the west bank at mile 303.0; thence north to the southern boundary of the Old River Lock Structure, thence west along the south bank of the Lower Old River, to the intersection with the Red River; thence west along the south bank of the Red River to Rapides Parish, thence south along the western boundaries of Avoyelles, Evangeline, Acadia and Vermillion Parishes to the intersection of the sea and longitude 92°37′00″ W; thence south along longitude 92°37′00″ W to the outermost extent of the EEZ; thence east along the outermost extent of the EEZ to longitude 88°00′00″ W; thence north along longitude 88°00′00″ W to latitude 29°00′00″ N; thence northwest to latitude 30°10′00″ N, longitude 89°10′00″ W; and in addition, all the area described in paragraph (b) of this section.

(b) The boundaries of the MSU Morgan City Marine Inspection and Captain of the Port Zones start at latitude 28°50′00″ N, longitude 88°00′00″ W.; thence proceeds west to latitude 28°50′00″ N., longitude 89°27′06″ W.; thence northwest to latitude 29°18′00″ N, longitude 90°00′00″ W; thence northwest along the northern boundaries of Lafourche, Assumption, Iberia, and St. Martin Parishes, Louisiana; thence northwest along the northern boundary of Lafayette and Acadia Parishes, Louisiana; thence south along the west boundary of Acadia and Vermillion Parishes, Louisiana to the Louisiana Coast at longitude 92°37′00″ W, thence south along longitude 92°37′00″ W to the outermost extent of the EEZ; thence east along the outermost extent of the EEZ to longitude 88°00′00″ W.; thence north to latitude 28°50′00″ N, longitude 88°00′00″ W.

§ 3.40-17 [Removed]

22. Remove § 3.40-17.

§ 3.40-20 [Removed]

23. Remove § 3.40-20.

24. Revise § 3.40-28 to read as follows:

§ 3.40-28 Sector Houston-Galveston Marine Inspection Zone and Captain of the Port Zone; Marine Safety Unit Port Arthur.

Sector Houston-Galveston's office is located in Galena Park, TX. A subordinate unit, Marine Safety Unit (MSU) Port Arthur, is located in Port Arthur, TX.

(a) Sector Houston-Galveston's Marine Inspection Zone and Captain of the Port Zone start near the intersection of the western boundary of Vermillion Parish, LA, and the sea at latitude 29°34′45″ N, longitude 92°37′00″ W, proceeding north along the eastern and southern boundaries of Cameron, Jefferson Davis, Allen, and Rapides Parishes, LA, to the southern bank of the Red River; thence northwest along the south bank of the Red River to the northern boundary of Red River Parish, LA; thence west along the northern boundary of Red River Parish and DeSoto Parish, LA, to the Louisiana-Texas border; thence north along the Louisiana-Texas border to the Texas-Arkansas border at the northern boundary of Bowie County, TX; thence west along the Texas-Arkansas border to the Texas-Oklahoma border; thence northwest along the Texas-Oklahoma border to the southern shore of Lake Texoma in Grayson County, TX; thence west along the northern shore of Lake Texoma to the Texas-Oklahoma border; thence west along the Texas-Oklahoma border to the Texas-New Mexico border, including all portions of the Red River; thence south along the Texas-New Mexico border to the southern boundary of Andrews County, TX; thence southeast along the western and southern boundaries of Andrews, Midland, Glasscock, Sterling, Tom Green, Concho, McCulloch, San Saba, Lampasas, Bell, Williamson, Lee, Washington, and Austin Counties, TX to the intersection of Colorado County, Texas; thence along the northern and eastern boundary of Colorado County to the east bank of the Colorado River; thence south along the east bank of the Colorado River to the sea; thence southeast along a line bearing 140° T to the outermost extent of the EEZ at latitude 25°59′50″ N, longitude 93°32′21″ W; thence east along the outermost extent of the EEZ to latitude 26°03′27″ N, longitude 92°37′00″ W; thence north along longitude 92°37′00″ W to the Louisiana Coast; and in addition, all the area described in paragraph (b) of this section.

(b) The boundaries of the MSU Port Arthur Marine Inspection and Captain of the Port Zones start at the intersection of the sea and longitude 92°37′00″ W; thence north along the eastern and southern boundaries of Cameron, Jefferson Davis, Allen, and Rapides Parishes, Louisiana to the southern bank of the Red River; thence northwest along the southern bank of the Red River to the northern boundary of Red River Parish, Louisiana; thence west along the northern boundary of Red River Parish and Desoto Parish, Louisiana to the Louisiana-Texas border; thence north along the Louisiana-Texas border to the Texas-Arkansas border at the northern boundary of Bowie County, Texas; thence north along the Texas-Arkansas border to the Texas-Oklahoma border; thence west along the Texas-Oklahoma border to the northwest-most boundary of Fannin County, Texas, including all portions of the Red River; thence south along the western and southern boundaries of Fannin, Hunt, Kaufman, Henderson, Anderson, Houston, Trinity, Polk, Hardin, and Jefferson Counties, Texas to the sea at longitude 94°25′00″ W; thence southeast to latitude 29°00′00″ N, longitude 93°40′00″ W; thence southeast to latitude 27°50′00″ N, longitude 93°24′00″ W; thence south along longitude 93°24′00″ W to the outermost extent of the EEZ; thence east along the outermost extent of the EEZ to longitude 92°37′00″ W; thence north along longitude 92°37′00″ W to the Louisiana Coast.

25. Revise § 3.40-35 to read as follows:

§ 3.40-35 Sector Corpus Christi Marine Inspection Zone and Captain of the Port Zone.

Sector Corpus Christi's office is located in Corpus Christi, TX. The boundaries of Sector Corpus Christi's Marine Inspection Zone and Captain of the Port Zone start at the junction of the sea and the east bank of the Colorado River at latitude 28°35′44″ N, longitude 95°58′48″ W, proceeding north along the east bank of the Colorado River to Colorado County, TX; thence southwest along the northern boundary of Wharton County, TX; thence northwest along the eastern and northern boundaries of Colorado, Fayette, Bastrop, Travis, Burnet, Llano, Mason, Menard, Schletcher, Irion, Reagan, Upton, and Ector Counties, TX; thence west along the northern boundary of Ector and Winkler Counties, TX, to the Texas-New Mexico border; thence north along the New Mexico border to the New Mexico-Colorado border; thence west along the New Mexico-Colorado border to the intersection of New Mexico, Colorado, Utah, and Arizona borders; thence south along the New Mexico-Arizona border to the United States-Mexican border; thence southeast along the United States-Mexican border to the outermost extent of the EEZ at latitude 25°57′22″ N, longitude 97°08′20″ W; thence east along the outermost extent of the EEZ to latitude 25°59′50″ N, longitude 93°32′21″ W; thence northwest to the point of origin.

26. Revise § 3.40-40 to read as follows:

§ 3.40-40 Sector Upper Mississippi River Marine Inspection Zone and Captain of the Port Zone.

Sector Upper Mississippi River's office is located in St. Louis, MO. The boundaries of Sector Upper Mississippi River's Marine Inspection Zone and Captain of the Port Zone include all of Wyoming except for Sweetwater County; all of North Dakota, South Dakota, Nebraska, Colorado, Kansas, and Iowa; all of Missouri with the exception of Perry, Cape Girardeau, Scott, Mississippi, New Madrid, Dunklin, and Pemiscot Counties; that part of Minnesota south of latitude 46°20′00″ N; that part of Wisconsin south of latitude 46°20′00″ N, and west of longitude 90°00′00″ W; that part of Illinois west of longitude 90°00′00″ W and north of latitude 41°00′00″ N; that part of Illinois south of latitude 41°00′00″ N, except for Jackson, Williamson, Saline, Gellatin, Union, Johnson, Pope, Hardin, Alexander, Pulaski, and Massac Counties; that part of the Upper Mississippi River above mile 109.9, including both banks, and that part of the Illinois River below latitude 41°00′00″ N.

§ 3.40-45 [Removed]

27. Remove § 3.40-45.

§ 3.40-50 [Removed]

28. Remove § 3.40-50.

§ 3.40-55 [Removed]

29. Remove § 3.40-55.

30. Revise § 3.40-60 to read as follows:

§ 3.40-60 Sector Lower Mississippi River Marine Inspection Zone and Captain of the Port Zone.

Sector Lower Mississippi River's office is located in Memphis, TN. The boundaries of Sector Lower Mississippi River's Marine Inspection Zone and Captain of the Port Zone include all of Arkansas and all of Oklahoma with the exception of the Red River and Lake Texoma; in Missouri: Dunklin and Pemiscot Counties. In Tennessee: Dyer, Lauderdale, Obion, Tipton, and Shelby Counties, and all portions of Lake County with the exception of the area north and west of a line drawn from Mississippi River at latitude 36°20′00 N and longitude 89°32′30″ W due east to Highway 78 thence northeast along Highway 78 to the Kentucky-Tennessee state line; in Mississippi: Desoto, Tunica, Coahoma, Bolivar, Washington, Humphreys, Holmes, Sharkey, Yazoo, Issaquena, Warren, Claiborne, Jefferson, Adams, and Wilkinson Counties; in Louisiana, all the areas north of a line drawn from the east bank of the Mississippi River at the Louisiana-Mississippi border, thence south along the east bank to mile 303.0, thence west to the west bank at mile 303.0, thence north to the southern boundary of the Old River Lock Structure, thence west along the southern bank of the Lower Old River, to the intersection with the Red River, thence west and northwest along the southern bank of the Red River to the northern-most boundary of Red River Parish, thence west along the northern boundary of Red River Parish and DeSoto Parish to the Texas-Louisiana Border, including Lasalle, Caldwell, Caddo, Bossier, Webster, Claiborne, Union, Morehouse, West Carroll, East Carroll, Madison, Richland, Ouachita, Lincoln, Jackson, Bienville, Winn, Grant, Franklin, Tensas, Catahoula, and Concordia Parishes; those parts of Avoyelles, Natchitoches, Rapides, and Red River Parishes north of the Red River, and that part of West Feliciana Parish north of the Lower Old River; that part of the Lower Mississippi River below mile 869.0 and above mile 303; and all of the Red River below the Arkansas-Oklahoma border.

31. Revise § 3.40-65 to read as follows:

§ 3.40-65 Sector Ohio Valley Marine Inspection Zone and Captain of the Port Zone; Marine Safety Unit Pittsburgh.

Sector Ohio Valley's office is located in Louisville, KY. A subordinate unit, Marine Safety Unit (MSU) Pittsburgh, is located in Pittsburgh, PA.

(a) Sector Ohio Valley's Marine Inspection Zone and Captain of the Port Zone comprise all of Kentucky and West Virginia; in Missouri: Perry, Cape Girardeau, Scott, Mississippi and New Madrid Counties; in Tennessee: that portion of Lake County north and west of a line drawn from the Mississippi River at latitude 36°20′00″ N and longitude 89°32′30″ W due east to Highway 78, thence northeast along Highway 78 to the Kentucky-Tennessee state line, and all other counties in Tennessee except Shelby, Tipton, Lauderdale, Dyer and Obion Counties; in Alabama: Colbert, Franklin, Lawrence, Morgan, Marshall, Lauderdale, Limestone, Madison, Jackson and DeKalb Counties; in Mississippi: Alcorn, Prentiss and Tishomingo Counties; that portion of Pennsylvania south of latitude 41°00′00″ N and west of longitude 79°00′00″ W; those parts of Indiana and Ohio south of latitude 41°00′00″ N; in Illinois: Jackson, Williamson, Saline, Gallatin, Union, Johnson, Pope, Hardin, Alexander, Pulaski, and Massac Counties, and in Randolph County, that part of the Upper Mississippi River below mile 109.9, including both banks; and that part of the Lower Mississippi River above mile 869.0 ; and in addition, all the area described in paragraph (b) of this section.

(b) The boundaries of the MSU Pittsburgh Marine Inspection and Captain of the Port Zones include that portion of Pennsylvania south of latitude 41°00′00″ N and west of longitude 79°00′00″ W; in West Virginia: Preston, Monongalia, Marion, Marshall, Ohio, Brooke, and Hancock Counties, and that part of the Ohio River north of a line drawn from latitude 39°39′18″ N (approximately mile 127.2) on the Ohio River, just below the Hannibal Lock and Dam; and in Ohio: Stark, Columbiana, Tuscarawas, Carroll, Harrison, Jefferson, and Belmont Counties, and those parts of Summit, Portage, and Mahoning Counties south of latitude 41°00′00″ N.

§ 3.45-5 [Removed]

32. Remove § 3.45-5.

33. Revise § 3.45-10 to read as follows:

§ 3.45-10 Sector Buffalo Marine Inspection Zone and Captain of the Port Zone.

Sector Buffalo's office is located in Buffalo, NY. The boundaries of Sector Buffalo's Marine Inspection Zone and Captain of the Port Zone include all navigable waters of the United States and contiguous land areas within the boundaries of an area starting from a point on the international boundary in Lake Erie at latitude 42°19′24″ N, longitude 80°31′10″ W, proceeding southwest along the international boundary to a point at latitude 41°40′36″ N, longitude 82°25′00″ W; thence south to latitude 41°00′00″ N; thence east to longitude 78°54′58″ W; thence north to latitude 42°00′00″ N; thence east to the east bank of the Delaware River at latitude 42°00′00″ N, longitude 75°21′28″ W; thence east to longitude 74°39′00″ W; thence north to the international boundary at a point at latitude 44°59′58″ N, longitude 74°39′00″ W; thence southeast along the international boundary to the starting point.

34. Revise § 3.45-15 to read as follows:

§ 3.45-15 Sector Lake Michigan Marine Inspection Zone and Captain of the Port Zone.

Sector Lake Michigan's office is located in Milwaukee, WI. The boundaries of Sector Lake Michigan's Marine Inspection Zone and Captain of the Port Zone include all navigable waters of the United States and contiguous land areas within the boundaries of an area starting from a point at latitude 44°43′00″ N, longitude 84°30′00″ W, proceeding northwest to a point near the eastern shore of Lake Michigan at latitude 45°38′00″ N, longitude 85°04′13″ W; thence northwest to latitude 45°50′00″ N, longitude 85°43′00″ W; thence southwest to latitude 45°41′00″ N, longitude 86°06′00″ W; thence northwest to latitude 46°20′00″ N, longitude 87°22′00″ W; thence west to latitude 46°20′00″ N, longitude 90°00′00″ W; thence south to latitude 41°00′00″ N; thence east to the Ohio-Indiana border at latitude 41°00′00″ N, longitude 84°48′12″ W; thence north along the Ohio-Indiana border to the intersection of the Ohio-Indiana-Michigan border at latitude 41°41′59″ N, longitude 84°48′22″ W; thence east along the Ohio-Michigan border to latitude 41°42′13″ N, longitude 84°30′00″ W; thence north to the start point.

35. Revise § 3.45-20 to read as follows:

§ 3.45-20 Sector Detroit Marine Inspection Zone and Captain of the Port Zone.

Sector Detroit's office is located in Detroit, MI. The boundaries of Sector Detroit's Marine Inspection Zone and Captain of the Port Zone include all navigable waters of the United States and contiguous land areas within the boundaries of an area starting from a point at latitude 41°00′00″ N, longitude 84°48′12″ W on the Ohio-Indiana boundary, proceeding east to longitude 82°25′00″ W; thence north to the international boundary in Lake Erie at latitude 41°40′36″ N, longitude 82°25′00″ W; thence north along the international boundary to latitude 45°35′00″ N, longitude 83°03′56″ W; thence southwest to a point near the shore of western Lake Huron at latitude 45°17′30″ N, longitude 83°25′23″ W; thence southwest to latitude 44°43′00″ N, longitude 84°30′00″ W; thence south to the Michigan-Ohio boundary at latitude 41°42′13″ N; thence west along the Michigan-Ohio boundary to the Ohio-Michigan-Indiana boundary at latitude 41°41′46″ N, longitude 84°48′22″ W; thence south along the Ohio-Indiana boundary to the starting point.

§ 3.45-25 [Removed]

36. Remove § 3.45-25.

§ 3.45-30 [Removed]

37. Remove § 3.45-30.

38. Revise § 3.45-45 to read as follows:

§ 3.45-45 Sector Sault Ste. Marie Marine Inspection Zone and Captain of the Port Zone; Marine Safety Unit Duluth.

Sector Sault Ste. Marie's office is located in Sault Ste. Marie, MI. A subordinate unit, Marine Safety Unit (MSU) Duluth, is located in Duluth, MN.

(a) Sector Sault Ste. Marie's Marine Inspection Zone and Captain of the Port Zone comprise all navigable waters of the United States and contiguous land areas within an area starting from a point at latitude 45°35′00″ N, longitude 83°03′56″ W on the international boundary, proceeding southwest to a point near the shore of western Lake Huron at latitude 45°17′30″ N, longitude 83°25′23″ W; thence southwest to latitude 44°43′00″ N, longitude 84°30′00″ W; thence northwest to a point near the eastern shore of Lake Michigan at latitude 45°38′00″ N, longitude 85°04′13″ W; thence northwest to latitude 45°50′00″ N, longitude 85°43′00″ W; thence southwest to latitude 45°41′00″ N, longitude 86°06′00″ W; thence northwest to latitude 46°20′00″ N, longitude 87°22′00″ W; thence west to latitude 46°20′00″ N, longitude 88°30′00″ W; thence west to the Minnesota-North Dakota boundary at latitude 46°20′00″ N, longitude 96°36′30″ W; thence north along the Minnesota-North Dakota boundary to the intersection of the Minnesota-North Dakota boundary and the international boundary at latitude 49°00′02″ N, longitude 97°13′46″ W; thence east along the EEZ to the starting point; and in addition, all the area described in paragraph (b) of this section.

(b) The boundaries of the MSU Duluth Marine Inspection and Captain of the Port Zones comprise all navigable waters of the United States and contiguous land areas within an area starting at a point latitude 46°20′00″ N, longitude 88°30′00″ W, proceeding west to the Minnesota-North Dakota boundary at latitude 46°20′00″ N, longitude 96°36′30″ W; thence north along the Minnesota-North Dakota boundary to the intersection of the Minnesota-North Dakota boundary and the international boundary at latitude 49°00′02″ N, longitude 97°13′46″ W; thence east along the international boundary to a point at latitude 47°59′23″ N, longitude 87°35′10″ W; thence south to a point near Manitou Island Light at latitude 47°25′09″ N, longitude 87°35′10″ W; thence southwest to a point near the shore of Lake Superior at latitude 46°51′51″ N, longitude 87°45′00″ W; thence southwest to the point of origin.

§ 3.45-50 [Removed]

39. Remove § 3.45-50.

40. Revise § 3.55-10 to read as follows:

§ 3.55-10 Sector Los Angeles-Long Beach Marine Inspection Zone and Captain of the Port Zone.

Sector Los Angeles-Long Beach's (LA-LB) office is located in San Pedro, CA. The boundaries of Sector LA-LB's Marine Inspection Zone and Captain of the Port Zone start at a point near the intersection of Monterey County and San Luis Obispo County and the California coast at latitude 35°47′43″ N, longitude 121°20′51″ W, proceeding southwest to the outermost extent of the EEZ at latitude 34°05′05″ N, longitude 124°56′43″ W; thence south along the outermost extent of the EEZ to latitude 32°01′17″ N, longitude 123°37′22″ W; thence northeast to the intersection of Orange County and San Diego County and the California coast at latitude 33°23′12″ N, longitude 117°35′45″ W; thence including all of Orange County, Riverside County, Ventura County, Los Angeles County, San Bernardino County, Santa Barbara County, Kern County, and San Luis Obispo County in California.

41. Revise § 3.55-15 to read as follows:

§ 3.55-15 Sector San Diego Marine Inspection Zone and Captain of the Port Zone.

Sector San Diego's office is located in San Diego, CA. The boundaries of Sector San Diego's Marine Inspection Zone and Captain of the Port Zone start at a point near the intersection of Orange County and San Diego County and the coast at latitude 33°23′12″ N, longitude 117°35′45″ W, proceeding southwest to the outermost extent of the EEZ at latitude 32°01′17″ N, longitude 123°37′22″ W; thence south along the outermost extent of the EEZ to the intersection of the maritime boundary with Mexico at latitude 30°32′31″ N, longitude 121°51′58″ W; thence east along the maritime boundary with Mexico to its intersection with the California coast at latitude 32°32′03″ N, longitude 117°07′29″ W; thence including Imperial County and San Diego County in California; all of Arizona; Washington, Kane, San Juan, and Garfield Counties in Utah; and Clark County in Nevada.

42. Revise § 3.55-20 to read as follows:

§ 3.55-20 Sector San Francisco: San Francisco Bay Marine Inspection Zone and Captain of the Port Zone.

The Sector San Francisco office is located in San Francisco, CA. The boundaries of Sector San Francisco's San Francisco Bay Marine Inspection and Captain of the Port Zones comprise the land masses and waters of Wyoming within the boundaries of Sweetwater County; Utah, except for Washington, Kane, San Juan, and Garfield Counties; Nevada, except for Clark County; and California, north of San Luis Obispo, Kern, and San Bernardino Counties. It also includes all ocean waters and islands contained therein of the EEZ bounded on the north by the northern boundary of the Eleventh Coast Guard District, which is described in § 3.55-1; and on the south by a line bearing 240 °T from the intersection of the Monterey-San Luis Obispo Count lines (approximately 35°47.5′00″ N latitude) and the California coast to the outermost extent of the EEZ; and on the west by the outermost extent of the EEZ.

43. Revise § 3.65-10 to read as follows:

§ 3.65-10 Sector Seattle: Puget Sound Marine Inspection Zone and Captain of the Port Zone.

Sector Seattle's office is located in Seattle, WA. The boundaries of Sector Seattle's Puget Sound Marine Inspection and Captain of the Port Zones start at latitude 48°29′35″ N, longitude 124°43′45″ W, proceeding along the Canadian border east to the Montana-North Dakota boundary; thence south along this boundary to the Wyoming state line; thence west and south along the Montana-Wyoming boundary to the Idaho state line; thence northwest along the Montana-Idaho boundary to latitude 46°55′00″ N; thence west along latitude 46°55′00″ N to longitude 123°18′00″ W; thence north to a point latitude 47°32′00″ N, longitude 123°18′00″ W; thence west along latitude 47°32′00″ N to the outermost extent of the EEZ; thence northeast along the outermost extent of the EEZ to the Canadian border; thence east along the Canadian border to the point of origin.

44. Revise § 3.65-15 to read as follows:

§ 3.65-15 Sector Portland Marine Inspection Zone and Captain of the Port Zone.

Sector Portland's office is located in Portland, OR. The boundaries of Sector Portland's Marine Inspection and Captain of the Port Zones start at the Washington coast at latitude 47°32′00″ N, longitude 124°21′15″ W, proceeding along this latitude east to latitude 47°32′00″ N, longitude 123°18′00″ W; thence south to latitude 46°55′00″ N, longitude 123°18′00″ W; thence east along this latitude to the eastern Idaho state line; thence southeast along the Idaho state line to the intersection of the Idaho-Wyoming boundary; thence south along the Idaho-Wyoming boundary to the intersection of the Idaho-Utah-Wyoming boundaries; thence west along the southern border of Idaho to Oregon and then west along the southern border of Oregon to the coast at latitude 41°59′54″ N, longitude 124°12′42″ W; thence west along the southern boundary of the Thirteenth Coast Guard District, which is described in § 3.65-10, to the outermost extent of the EEZ at latitude 41°38′35″ N, 128°51′26″ W; thence north along the outermost extent of the EEZ to latitude 47°32′00″ N; thence east to the point of origin.

45. Revise § 3.70-10 to read as follows:

§ 3.70-10 Sector Honolulu Marine Inspection Zone and Captain of the Port Zone.

Sector Honolulu's office is located in Honolulu, HI. The boundaries of Sector Honolulu's Marine Inspection Zone coincide with the boundaries of the Fourteenth Coast Guard District, which are described in § 3.70-1, excluding those areas within the Guam Marine Inspection Zone as described in § 3.70-15, and excluding those areas within the Marine Inspection Zone East Asia, described as including Asia, Diego Garcia in the Indian Ocean, and the Malay Archipelago, but excluding the Philippines. The Honolulu Captain of the Port Zone comprises the State of Hawaii, including all the islands and atolls of the Hawaiian chain and the adjacent waters of the EEZ; and the following islands and their adjacent waters of the EEZ: American Samoa, Johnston Atoll, Palmyra Atoll, Kingman Reef, Wake Island, Jarvis Island, Howland and Baker Islands, and Midway Island.

46. Revise § 3.70-15 to read as follows:

§ 3.70-15 Sector Guam Marine Inspection Zone and Captain of the Port Zone.

Sector Guam's office is located on Victor Wharf, U.S. Naval Base, Guam. The boundaries of Sector Guam's Marine Inspection Zone and Captain of the Port Zone comprise the Territory of Guam and the adjacent waters of the EEZ, and the Commonwealth of the Northern Mariana Islands and the adjacent waters of the EEZ.

47. Revise § 3.85-10 to read as follows:

§ 3.85-10 Sector Juneau: Southeast Alaska Marine Inspection Zone and Captain of the Port Zones.

Sector Juneau's office is located in Juneau, AK. The boundaries of Sector Juneau's Southeast Alaska Marine Inspection and Captain of the Port Zones start at latitude 60°01′18″ N, longitude 142°00′00″ W, proceeding northeast to the EEZ near the Canadian border at latitude 60°18′24″ N, longitude 141°00′00″ W; thence south and east along the EEZ on the United States-Canadian shore side boundary to the intersection of the Canadian coast and the Coast Guard District Seventeen southern border at latitude 54°40′00″ N, longitude 131°15′06″ W; thence west along the southern border of Coast Guard District Seventeen to the intersection with the outermost extent of the EEZ at latitude 54°38′11″ N, longitude 140°01′26″ W; thence north along the outermost extent of the EEZ to latitude 56°14′50″ N, longitude 142°00′00″ W; thence north to the point of origin.

48. Revise § 3.85-15 to read as follows:

§ 3.85-15 Sector Anchorage: Western Alaska Marine Inspection Zone and Captain of the Port Zones; Marine Safety Unit Valdez: Prince William Sound Marine Inspection and Captain of the Port Zones.

Sector Anchorage's office is located in Anchorage, AK. A subordinate unit, Marine Safety Unit (MSU) Valdez, is located in Valdez, AK.

(a) Sector Anchorage's Western Alaska Marine Inspection and Captain of the Port Zones start near the Canadian border on the EEZ at latitude 60°18′24″ N, longitude 141°00′00″ W, proceeding southwest to latitude 60°01′18″ N, longitude 142°00′00″ W; thence south to the outermost extent of the EEZ at latitude 56°14′50″ N, longitude 142°00′00″ W; thence southwest along the outermost extent of the EEZ to latitude 51°22′15″ N, longitude 167°38′28″ W; thence northeast along the outermost extent of the EEZ to latitude 65°30′00″ N, longitude 168°58′37″ W; thence north along the outermost extent of the EEZ to latitude 72°46′55″ N, longitude 168°58′37″ W; thence northeast along the outermost extent of the EEZ to latitude 74°42′35″ N, longitude 156°28′30″ W; thence southeast along the outermost extent of the EEZ to latitude 72°46′39″ N, longitude 137°30′02″ W; thence south along the outermost extent of the EEZ to the coast near the Canadian border at latitude 69°38′33″ N, longitude 140°49′53″ W; thence south along the United States-Canadian boundary to the point of origin ; and in addition, all the area described in paragraph (b) of this section.

(b) The boundaries of MSU Valdez's Prince William Sound Marine Inspection and Captain of the Port Zones start at Cape Puget at latitude 59°56′04″ N, longitude 148°26′00″ W, proceeding north to latitude 61°30′00″ N, longitude 148°26′00″ W; thence east to the United States-Canadian boundary at latitude 61°30′00″ N, longitude 141°00′00″ W; thence south along the United States-Canadian boundary to latitude 60°18′24″ N, longitude 141°00′00″ W; thence southwest to the sea at latitude 60°01′18″ N, longitude 142°00′00″ W; thence south to the outermost extent of the EEZ at latitude 56°14′50″ N, longitude 142°00′00″ W; thence along the outermost boundary of the EEZ to latitude 54°49′26″ N, longitude 148°26′00″ W; thence north to the point of origin.

§ 3.85-20 [Removed]

49. Remove § 3.85-20.

PART 20—RULES OF PRACTICE, PROCEDURE, AND EVIDENCE FOR FORMAL ADMINISTRATIVE PROCEEDINGS OF THE COAST GUARD

50. The authority citation for part 20 is revised to read as follows:

Authority: 33 U.S.C. 1321; 42 U.S.C. 9609; 46 U.S.C. 7701, 7702; Department of Homeland Security Delegation No. 0170.1, para. 2(73).

§ 20.1103 [Amended]

51. In § 20.1103(a)(1)(i), remove the words “Marine Safety” and add, in their place, the word “Sector”.

PART 100—SAFETY OF LIFE ON NAVIGABLE WATERS

52. The authority citation for part 100 continues to read as follows:

Authority: 33 U.S.C. 1233.

§ 100.111 [Amended]

53. In § 100.111(b)(1) and (b)(5) , remove the words “Group Southwest Harbor” and add, in their place, the words “Sector Northern New England”.

§ 100.501 [Amended]

54. In § 100.501(a)(2), remove the word “Group” and add, in its place, the word “Sector”.

§ 100.502 [Amended]

55. In § 100.502(a)(2), remove the words “Group Atlantic City” and add, in their place, the words “Sector Delaware Bay.

§ 100.508 [Amended]

56. In § 100.508(a)(3), remove the word “Group” and add, in its place, the word “Sector”.

§ 100.509 [Amended]

57. In § 100.509(a)(2), remove the words “Group Philadelphia” and add, in their place, the words “Sector Delaware Bay”.

§ 100.510 [Amended]

58. In § 100.510(a)(2), remove the word “Group” and add, in its place, the word “Sector”.

§ 100.512 [Amended]

59. In § 100.512(a)(2), remove the word “Group” and add, in its place, the word “Sector”.

§ 100.513 [Amended]

60. In § 100.513(a)(2), remove the words “Group Fort Macon” and add, in their place, the words “Sector North Carolina”.

§ 100.514 [Amended]

61. In § 100.514(a)(2), remove the words “Group Cape May, New Jersey” and add, in their place, the words “Sector Delaware Bay”.

§ 100.519 [Amended]

62. In § 100.519(a)(2), remove the words “SFO Eastern Shore” and add, in their place, the words “Sector North Carolina”.

§ 100.520 [Amended]

63. In § 100.520(a)(2), remove the word “Group” and add, in its place, the word “Sector”.

§ 100.522 [Amended]

64. In § 100.522(a)(2), remove the word “Group” and add, in its place, the word “Sector”.

§ 100.523 [Amended]

65. In § 100.523(a)(2), remove the word “Group” and add, in its place, the word “Sector”.

§ 100.525 [Amended]

66. In § 100.525(a)(1) and (a)(2), remove the word “Group” and add, in its place, the word “Sector”.

§ 100.529 [Amended]

67. In § 100.529(a)(1) and (a)(2), remove the words “Group Philadelphia”, and add, in their place, the words “Sector Delaware Bay”.

§ 100.709 [Amended]

68. In § 100.709(a)(2), remove the word “Group” and add, in its place, the word “Sector”.

§ 100.710 [Amended]

69. In § 100.710(c), remove the words “Group Mayport” and add, in their place, the words “Sector Jacksonville”.

§ 100.713 [Amended]

70. In § 100.713(a)(2), remove the word “Group” and add, in its place, the word “Sector”.

§ 100.714 [Amended]

71. In § 100.714(a)(2), remove the word “Group” and add, in its place, the word “Sector”.

§ 100.715 [Amended]

72. In § 100.715(a)(2), remove the word “Group” and add, in its place, the word “Sector”.

§ 100.716 [Amended]

73. In § 100.716(c), remove the words “Group Mayport” and add, in their place, the words “Sector Jacksonville”.

§ 100.721 [Amended]

74. In § 100.721(a)(3), remove the word “Group” and add, in its place, the word “Sector”.

§ 100.722 [Amended]

75. In § 100.722(a)(2), remove the word “Group” and add, in its place, the word “Sector”.

§ 100.724 [Amended]

76. In § 100.724(a)(2), remove the word “Group” and add, in its place, the word “Sector”.

§ 100.728 [Amended]

77. In § 100.728(b)(1), remove the word “Group” and add, in its place, the word “Sector”.

§ 100.732 [Amended]

78. In § 100.732(a)(2), remove the word “Group” and add, in its place, the word “Sector”.

§ 100.735 [Amended]

79. In § 100.735(b)(4), remove the word “Group” and add, in its place, the word “Sector”.

§ 100.801 [Amended]

80. In § 100.801—

a. In Table 1 sections (I), (II), (III), (IV), (V), and, (VII), remove the word “Group” wherever it appears and add, in its place, the word “Sector”;

b. In Table 1 section (VI), before the word “Galveston”, add the word “Houston-”; and

c. In Table 1 section (VIII), remove the word “Office” and add, in its place, the word “Unit”.

§ 100.901 [Amended]

81. In § 100.901—

a. In Table 1, remove the word “Group Sault Ste. Marie” wherever it appears and add, in its place the word “Sector Sault Ste. Marie”;

b. In Table 1, remove the words “Group Grand Haven”, and add the words “Field Office Grand Haven”; and

c. In Table 1, remove the word “Group Milwaukee” and add, in its place the word “Sector Lake Michigan”.

§ 100.1103 [Amended]

82. In § 100.1103, remove the word “Group” and add, in its place, the word “Sector”, wherever it appears.

§ 100.1105 [Amended]

83. In § 100.1105(c) introductory text and (c)(4), remove the word “Group” and add, in its place, the word “Sector”.

PART 104—MARITIME SECURITY: VESSELS

84. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.297 [Amended]

85. In § 104.297(c), remove the words “Marine Safety” and add it their place the word “Sector”.

PART 110—ANCHORAGE REGULATIONS

86. The authority citation for part 110 continues to read as follows:

Authority: 33 U.S.C. 471, 1221 through 1236, 2030, 2035, 2071; 33 CFR 1.05-1(g); Department of Homeland Security Delegation No. 0170.1.

§ 110.140 [Amended]

87. In § 110.140, remove the words “Captain of the Port Providence” and add, in their place, the words “Captain of the Port Southeastern New England”, wherever it appears.

§ 110.186 [Amended]

88. In § 110.186(b)(4), remove the word “Group” and add, in its place, the word “Sector”.

§ 110.188 [Amended]

89. In § 110.188(b)(11), remove the word “Group” and add, in its place, the word “Sector”.

PART 135—OFFSHORE OIL POLLUTION COMPENSATION FUND

90. The authority citation for part 135 is revised to read as follows:

Authority: 33 U.S.C. 2701-2719; E.O. 12777, 56 FR 54757; Department of Homeland Security Delegation No. 0170.1, para. 2(80).

§ 135.305 [Amended]

91. In § 135.305(a)(2), remove the words “Marine Safety Office” and “Marine Safety Detachment” and add, in their place, the words “Sector Office” and “Marine Safety Unit” respectively.

PART 151—VESSELS CARRYING OIL, NOXIOUS LIQUID SUBSTANCES, GARBAGE, MUNICIPAL OR COMMERCIAL WASTE, AND BALLAST WATER

92. The authority citation for part 151 continues to read as follows:

Authority: 33 U.S.C. 1321, 1903, 1908; 46 U.S.C. 6101; Pub. L. 104-227, 110 Stat. 3034; E.O. 12777, 3 CFR 1991 Comp., p. 351; Department of Homeland Security Delegation No. 0170.1.

§ 151.07 [Amended]

93. In § 151.07 introductory text, remove the words “Marine Safety Office (MSO)” and add, in their place, the words “Sector Office”.

§ 151.25 [Amended]

94. In § 151.25(b), remove the words “Marine Safety Office” and add in their place, the words “Sector Office”.

PART 160—PORTS AND WATERWAYS SAFETY—GENERAL

95. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

§ 160.215 [Amended]

96. In § 160.215, remove the words “Marine Safety” and add, in their place, the word “Sector”, wherever they appear.

PART 162—INLAND WATERWAYS NAVIGATION REGULATIONS

97. The authority citation for part 162 is revised to read as follows:

Authority: 33 U.S.C. 1231; Department of Homeland Security Delegation No. 0170.1, para. 2(70).

§ 162.240 [Amended]

98. In § 162.240(d), remove the words “Marine Safety” and add, in their place, the word “Sector”.

PART 165—REGULATED NAVIGATION AREAS AND LIMITED ACCESS AREAS

99. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

§ 165.151 [Amended]

100. In § 165.151(b)—

a. Remove the words “Group/Marine Safety Office” and add, in their place, the word “Sector”; and

b. Remove the word “Group” and add, in its place, the words “Sector Field Office”.

§ 165.501 [Amended]

101. In § 165.501(b)—

a. Remove the word “Group” and add, in its place, the word “Sector”; and

b. Remove the words “Marine Safety Office” and add, in their place, the word “Sector”.

§ 165.510 [Amended]

102. In § 165.510(b), remove the words “Philadephia, PA” and add, in their place, the words “Delaware Bay.”

§ 165.511 [Amended]

103. In § 165.511—

a. In paragraph (a), remove the word “Philadelphia” and add, in its place, the words “Delaware Bay”;

b. In paragraphs (b)(2) and (b)(5), remove the word “Philadelphia” wherever it appears and add, in its place, the words “Delaware Bay”;

c. In paragraphs (b)(3) and (b)(4), remove the words “Philadephia, PA” wherever they appear and add, in their place, the words “Delaware Bay” and

d. In paragraph (d), remove the words “Marine Safety Office/Group Philadelphia” and add, in its place, the words “Sector Delaware Bay”.

§ 165.514 [Amended]

104. In § 165.514(d), remove the word “Office” and add, in its place, the word “Unit”.

§ 165.515 [Amended]

105. In § 165.515(c), remove the word “Office” and add, in its place, the word “Unit”.

§ 165.530 [Amended]

106. In § 165.530(b)(1) and (b)(3), remove the word “Office” wherever it appears and add, in its place, the word “Unit”.

§ 165.535 [Amended]

107. In § 165.535—

a. In paragraphs (b) and (d)(3), remove the word “Philadelphia” wherever it appears and add, in its place, the words “Delaware Bay”; and

b. In paragraph (d)(2), remove the word “Group” and add, in its place, the words “Sector Field Office”.

§ 165.552 [Amended]

108. In § 165.552(c), remove the words “Marine Safety Office/Group Philadelphia” and add, in their place, the words “Sector Delaware Bay”.

§ 165.553 [Amended]

109. In § 165.553(c), remove the words “Marine Safety Office/Group Philadelphia” and add, in their place, the words “Sector Delaware Bay”.

§ 165.554 [Amended]

110. In § 165.554(c), remove the words “Marine Safety Office/Group Philadelphia” and add, in their place, the words “Sector Delaware Bay”.

§ 165.703 [Amended]

111. In § 165.703(d), remove the words “Marine Safety Office Tampa” and add, in their place, the words “Sector St. Petersburg”.

§ 165.704 [Amended]

112. In § 165.704, remove the words “Captain of the Port Tampa” and add, in their place, the words “Captain of the Port St. Petersburg”, wherever they appear.

§ 165.709 [Amended]

113. In § 165.709(b), remove the words “Marine Safety Office” and add, in their place, the word “Sector”.

§ 165.754 [Amended]

114. In § 165.754(b)(3) and (b)(4), remove the words “Marine Safety Office” wherever they appear and add, in their place, the word “Sector”.

§ 165.755 [Amended]

115. In § 165.755(c), remove the words “Marine Safety Office” and add, in their place, the word “Sector”.

§ 165.757 [Amended]

116. In § 165.757(b), remove the words “Marine Safety Office” and add, in their place, the word “Sector”.

§ 165.758 [Amended]

117. In § 165.758(b)(3), remove the words “Marine Safety Office” and add, in their place, the word “Sector”.

§ 165.762 [Amended]

118. In § 165.762(b)(3), remove the words “Marine Safety Office” and add, in their place, the word “Sector”.

§ 165.764 [Amended]

119. In § 165.764(b)(1), remove the words “Captain of the Port, Tampa” and add, in their place, the words “Captain of the Port St. Petersburg”.

§ 165.825 [Amended]

120. In § 165.825(b)(3), remove the word “Group” and add, in its place, the word “Sector”.

§ 165.904 [Amended]

121. In § 165.904(c)(1), remove the words “Captain of the Port, Chicago” and add, in their place, the words “Captain of the Port Lake Michigan”.

§ 165.907 [Amended]

122. In § 165.907(b)(3), remove the word “Group” and add, in its place, the word “Sector”.

§ 165.909 [Amended]

123. In § 165.909(b)(3), remove the words “Group Milwaukee” and add, in their place, the words “Sector Lake Michigan”.

§ 165.910 [Amended]

124. In § 165.910—

a. In the section heading, remove the words “Chicago, Zone,”;

b. In paragraph (a)(1)(ii), remove the words “Group Milwaukee” and add, in their place, the words “Sector Lake Michigan”; and

c. Remove the words “Captain of the Port Chicago” and add, in their place, the words “Captain of the Port Lake Michigan”, wherever they appear.

§ 165.914 [Amended]

125. In § 165.914(b)(3) and (b)(4), remove the word “Group” and add, in its place, the word “Sector”.

§ 165.915 [Amended]

126. In § 165.915, in the section heading, remove the words “Toledo Zone, Lake Erie” and add “Detroit” in their place, and remove the words “Captain of the Port Toledo” and add, in their place, the words “Captain of the Port Detroit”, wherever they appear.

§ 165.921 [Amended]

127. In § 165.921(e)(1)(i) and (e)(2)(v), remove the word “MSO” wherever it appears and add, in its place, the word “MSU”.

§ 165.1191 [Amended]

128. In § 165.1191(b) and (b)(3), remove the word “Group” wherever it appears and add, in its place, the word “Sector”.

§ 165.1199 [Amended]

129. In § 165.1199(d), remove the word “Group” and add, in its place, the word “Sector”.

Title 46—Shipping

PART 1—ORGANIZATION, GENERAL COURSE AND METHODS GOVERNING MARINE SAFETY FUNCTIONS

130. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.01-25 [Amended]

131. In § 1.01-25(b)(1), remove the words “Marine Safety Office” and add, in their place, the word “Sector Office”.

PART 2—VESSEL INSPECTIONS

132. The authority citation for part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

§ 2.01-1 [Amended]

133. In § 2.01-1(a)(1), remove the words “Marine Safety Office” and add, in their place, the words “Sector Office”.

§ 2.01-3 [Amended]

134. In § 2.01-3(b), remove the words “Marine Safety Office” and add, in their place, the words “Sector Office”.

PART 4—MARINE CASUALTIES AND INVESTIGATIONS

135. The authority citation for part 4 continues to read as follows:

Authority: 33 U.S.C. 1231; 43 U.S.C. 1333; 46 U.S.C. 2103, 2303a, 2306, 6101, 6301, and 6305; 50 U.S.C. 198; Department of Homeland Security Delegation No. 0170.1. Subpart 4.40 issued under 49 U.S.C. 1903(a)(1)(E).

§ 4.05-1 [Amended]

136. In § 4.05-1(a), remove the words “Marine Safety Office” and add, in their place, the words “Sector Office”.

§ 4.05-10 [Amended]

137. In § 4.05-10(a), remove the words “Marine Safety Office” and add, in their place, the words “Sector Office”.

PART 5—MARINE INVESTIGATION REGULATIONS—PERSONNEL ACTION

138. The authority citation for part 5 continues to read as follows:

Authority: 46 U.S.C. 2103, 7101, 7301, 7701; Department of Homeland Security Delegation No. 0170.1.

§ 5.807 [Amended]

139. In § 5.807, remove the words “Marine Safety Offices” and add, in their place, the words “Sector Offices”.

PART 16—CHEMICAL TESTING

140. The authority citation for part 16 continues to read as follows:

Authority: 46 U.S.C. 2103, 3306, 7101, 7301, and 7701; Department of Homeland Security Delegation No. 0170.1.

§ 16.500 [Amended]

141. In § 16.500(b)(2), remove the words “Marine Safety Office” and add, in their place, the words “Sector Office”.

PART 28—REQUIREMENTS FOR COMMERCIAL FISHING INDUSTRY VESSELS

142. The authority citation for part 28 continues to read as follows:

Authority: 46 U.S.C. 3316, 4502, 4505, 4506, 6104, 10603; Department of Homeland Security Delegation No. 0170.1.

§ 28.50 [Amended]

143. In § 28.50, in the definition of “Coast Guard Representative,” remove the words “Marine Safety Office” and add, in their place, the words “Sector Office”.

PART 45—GREAT LAKES LOAD LINES

144. The authority citation for part 45 continues to read as follows:

Authority: 46 U.S.C. 5104, 5108; Department of Homeland Security Delegation No. 0170.1.

§ 45.181 [Amended]

145. In § 45.181(a), remove the words “Marine Safety Office” and add, in their place, the words “Sector Office”.

PART 50—GENERAL PROVISIONS

146. The authority citation for part 50 continues to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

§ 50.10-30 [Amended]

147. In § 50.10-30—

a. In the heading to table 50.10-30, remove the words “Marine Safety Office” and add, in their place, the words “Previous Sector Office”; and

b. In table 50.10-30, in the heading to column 2, remove the words “Marine Safety” and add, in their place, the word “Sector”.

PART 67—DOCUMENTATION OF VESSELS

148. The authority citation for part 67 continues to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.149 [Amended]

149. In § 67.149(b), remove the words “Marine Safety Office” and add, in their place, the words “Sector Office”.

PART 115—INSPECTION AND CERTIFICATION

150. The authority citation for part 115 continues to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.

§ 115.105 [Amended]

151. In § 115.105(a), remove the words “Marine Safety Office” and add, in their place, the words “Sector Office”.

PART 122—OPERATIONS

152. The authority citation for part 122 continues to read as follows:

Authority: 46 U.S.C. 2103, 3306, 6101; E.O. 12234, 45 FR 58801, 3 CFR, 1980 Comp., p. 277; Department of Homeland Security Delegation No. 0170.1.

§ 122.202 [Amended]

153. In § 122.202(a), remove the words “Marine Safety Office” and add, in their place, the words “Sector Office”.

§ 122.206 [Amended]

154. In § 122.206(a), remove the words “Marine Safety Office” and add, in their place, the words “Sector Office”.

PART 153—SHIPS CARRYING BULK LIQUID, LIQUEFIED GAS, OR COMPRESSED GAS HAZARDOUS MATERIALS

155. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903(b).

§ 153.1101 [Amended]

156. In § 153.1101(a), remove the words “Marine Safety Office” and add, in their place, the words “Sector Office”.

§ 153.1130 [Amended]

157. In § 153.1130(a), remove the words “Marine Safety Office” and add, in their place, the words “Sector Office”.

PART 169—SAILING SCHOOL VESSELS

158. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

§ 169.205 [Amended]

159. In § 169.205(d), remove the words “Marine Safety Office” and add, in their place, the words “Sector Office”.

PART 170—STABILITY REQUIREMENTS FOR ALL INSPECTED VESSELS

160. The authority citation for part 170 continues to read as follows:

Authority: 43 U.S.C. 1333; 46 U.S.C. 2103, 3306, 3703; E.O. 12234, 45 FR 58801, 3 CFR, 1980 Comp., p. 277; Department of Homeland Security Delegation No. 0170.1.

§ 170.100 [Amended]

161. In § 170.100(a), remove the words “Marine Safety Office” and add, in their place, the words “Sector Office”.

PART 176—INSPECTION AND CERTIFICATION

162. The authority citation for part 176 continues to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.

§ 176.105 [Amended]

163. In § 176.105(a), remove the words “Marine Safety Office” and add, in their place, the words “Sector Office”.

PART 185—OPERATIONS

164. The authority citation for part 185 continues to read as follows:

Authority: 46 U.S.C. 2103, 3306, 6101; E.O. 12234, 45 FR 58801, 3 CFR, 1980 Comp., p. 277; Department of Homeland Security Delegation No. 0170.1.

§ 185.202 [Amended]

165. In § 185.202(a), remove the words “Marine Safety Office” and add, in their place, the words “Sector Office”.

§ 185.206 [Amended]

166. In § 185.206(a), remove the words “Marine Safety Office” and add, in their place, the words “Sector Office”.

Dated: June 25, 2007.
Thad W. Allen,
Admiral, U.S. Coast Guard Commandant.

[FR Doc. 07-3189 Filed 6-28-07; 12:15 pm]

BILLING CODE 4910-15-P